DEPARTMENT OF AGRICULTURE

Forest Service

Del Norte County Resource Advisory Committee

AGENCY: Forest Service, USDA.

ACTION: Notice of meeting.

SUMMARY: The Del Norte County Resource Advisory Committee (RAC) will meet on August 14 and 15, 2006, in Crescent City, California.The purpose of the meeting is to review and vote on FY 2007 proposed title II projects under Public Law 106-393, H.R. 2389, the Secure Rural Schools and Community Self-Determination Act of 2000, also called the “Payments to States” Act.

DATES: The meeting will be held on August 14 and 15, 2006 from 6 to 8:30 p.m.

ADDRESSES: The meeting will be held at the Del Norte County Unified School District Board Room, 301 West Washington Street, Crescent City, California.

FOR FURTHER INFORMATION CONTACT: Julie Ranieri, Committee Coordinator, USDA, Six Rivers National Forest, 1330 Bayshore Way, Eureka, CA 95501. Phone: (707) 441-3673. e-mail: jranieri@fs.fed.us.

SUPPLEMENTARY INFORMATION: The RAC will review and vote on the Title II proposals presented at the June 12 and 13, 2006, meetings. The meeting is open to the public. Individuals will have the opportunity to address the committee at that time.

Dated: July 20, 2006.
Tyrone Kelley,
Forest Supervisor.

[FR Doc. 06-6801 Filed 8-8-06; 8:45am]

BILLING CODE 3410-11-M